DEPARTMENT OF THE TREASURY

Submission for OMB Review; Comment Request

September 17, 2012.

The Department of the Treasury will submit the following information collection request to the Office of Management and Budget (OMB) for review and clearance in accordance with the Paperwork Reduction Act of 1995, Public Law 104-13, on or after the date of publication of this notice.

DATES: Comments should be received on or before October 22, 2012 to be assured of consideration.

ADDRESSES: Send comments regarding the burden estimate, or any other aspect of the information collection, including suggestion for reducing the burden to the (1) Office of Information and Regulatory Affairs, Office of Management and Budget, Attention: Desk Officer for Treasury, New Executive Office Building, Room 10235, Washington, DC 20503, or email at OIRA_Submission@OMB.EOP.GOV and the (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Financial Management Service (FMS)

OMB Number: 1510-0008.

Type of Review: Extension without change of a currently approved collection.

Title: Pools and Associations—Annual Letter.

Abstract: Information collected determines acceptable percent for each pool and association Treasury Certified companies are given credit for on Treasury Schedule F for authorized ceded reinsurance in determining the companies' underwriting limitations.

Affected Public: Private Sector: Businesses or other for-profits.

Estimated Total Burden Hours: 126.

Robert Dahl,
Treasury PRA Clearance Officer.

[FR Doc. 2012-23261 Filed 9-19-12; 8:45 am]

BILLING CODE 4810-35-P